DEPARTMENT OF TRANSPORTATION

Federal Aviation Administration

89th Meeting: RTCA Special Committee 159, Global Positioning Systems (GPS)

AGENCY: Federal Aviation Administration (FAA), U.S. Department of Transportation (DOT).

ACTION: Meeting Notice of RTCA Special Committee 159, RTCA Special Committee 159, Global Positioning Systems (GPS).

SUMMARY: The FAA is issuing this notice to advise the public of the eighty-ninth meeting of the RTCA Special Committee 159, Global Positioning Systems (GPS).

DATES: The meeting will be held October 5, 2012 from 9 a.m.—4:30 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 159. The agenda will include the following:

October 5, 2012

• Chairman's Introductory Remarks.

• Approval of Summary of the Eighty-Eighth Meeting held March 16, 2012.

• Review Working Group (WG) Progress and Identify Issues for Resolution.

• GPS/3nd Civil Frequency (WG-1)

• GPS/WAAS (WG-2)

• GPS/GLONASS (WG-2A)

• GPS/Inertial (WG-2C)

• GPS/Precision Landing Guidance (WG- 4)

• GPS/Airport Surface Surveillance (WG-5)

• GPS/Interference (WG-6)

• GPS/Antennas (WG-7)

• Review of EUROCAE Activities

• Review/Approval of Change 1 to DO-229D—Minimum Operational Performance Standards for Global Positioning System/Wide Area Augmentation System Airborne Equipment

• Assignment/Review of Future Work.

• Other Business.

• Date and Place of Next Meeting.

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 6, 2012.
David Sicard,
Manager, Business Operations Group, Federal Aviation Administration.

[FR Doc. 2012-22458 Filed 9-11-12; 8:45 am]

BILLING CODE 4910-13-P